DEPARTMENT OF TRANSPORTATION

Federal Aviation Administration

Environmental Impact Statement: Philadelphia International Airport Runway 17-35 Extension Project, Philadelphia, PA

AGENCY: Federal Aviation Administration (FAA), DOT.

ACTION: Notice of Intent.

SUMMARY: The FAA is issuing this notice to advise the public that an Environmental Impact Statement (EIS) will be prepared for the Philadelphia International Airport Runway 17-35 Extension Project. In 2002, although the Philadelphia International Airport (PHL or the Airport) was the 12th busiest airport in the United States in terms of the annual number of aircraft operations (departures and arrivals), it was the 5th most delayed airport in the country. The FAA has also identified PHL as a “pacing” airport—an airport that contributes to delays throughout the national airports system. An airfield modeling and capacity/delay analysis performed during the Airport's on-going Master Plan Update process determined that the average annual delay in 2000 at PHL was nearly 10 minutes per aircraft operation. This level of delay has not abated significantly since that time. Without improvements, the Master Plan Update forecasts that this average annual delay would increase to nearly 20 minutes per operations by 2010. Furthermore, it was determined that one of the major causes of the delay is inadequate airfield capacity because of the current configuration of the airfield. As a result, the City of Philadelphia is proposing major improvements to the Airport to increase airfield capacity at PHL in order to reduce existing and forecast delays. The FAA has concurred that a capacity and delay problem exists at PHL and that projects for alleviating this problem are subject to the preparation of an EIS under the National Environmental Policy Act (NEPA). The City proposes two projects to address immediate and long-term needs. One project, known as the Runway 17-35 Extension Project (the Runway 17-35 Project), which is the subject of this Notice of Intent, would provide a more immediate delay reduction for several years by extending the length of Runway 17-35. The second project, referred to as the Capacity Enhancement Program, is a major airfield redevelopment project that would provide greater relief from delay over a much longer period and is the subject of a separate Notice of Intent. The FAA, as lead federal agency, at the City of Philadelphia's request, has opted to prepare a separate EIS for each project because the Runway 17-35 Project will address the short-term need for delay reduction at PHL while the Capacity Enhancement Program will provide more comprehensive and longer-term delay reduction. The FAA will prepare the EISs concurrently and will take into account the potential cumulative impacts of each project, but a separate Public Scoping Meeting will be held for the Capacity Enhancement Program.

The U.S. Secretary of Transportation has chosen these proposed improvements as one of thirteen high priority transportation projects for expedited environmental review under Executive Order 13274, Environmental Stewardship and Transportation Infrastructure Project Review. The FAA and the environmental review agencies will be collaborating to undertake environmental streamlining and stewardship on both the Capacity Enhancement Program and the Runway 17-35 Project.

FOR FURTHER INFORMATION CONTACT: James B. Byers, Environmental Specialist, Federal Aviation Administration, Harrisburg Airports District Office, 3905 Hartzdale Drive, Suite 508, Camp Hill, PA 17011. Telephone (717) 730-2833.

SUPPLEMENTARY INFORMATION: The FAA, in cooperation with the City of Philadelphia Department of Aviation, will prepare an EIS for the proposed project. The EIS for the Runway 17-35 Project will address a range of alternatives that would reduce existing and forecasted delays at PHL, including a No Build Alternative, a build alternative that would extend Runway 17-35 to the north by 600 feet and to the south by 440 feet, to a total length of 6,500 feet, as well as a range of other alternatives such as demand management alternatives and alternatives that are not within the jurisdiction of PHL or FAA, such as greater use of regional airports or other transportation modes. The EIS will also evaluate alternatives identified during the Scoping process that would reduce existing and forecasted delays at PHL. The FAA intends to use the preparation of this EIS to comply with Section 106 of the National Historic Preservation Act of 1966, as amended and any other applicable laws having public involvement requirements. Comments addressing this issue should be addressed to the listed contact person.

The FAA intends to conduct a Scoping process to gather input from all interested parties to help identify any issues of concern associated with the proposed project. In addition to this notice, Federal, State, and local agencies, which have jurisdiction by law or have special expertise with respect to any potential environmental impacts associated with the proposed project, will be notified by letter of an Agency Scoping Meeting to be held on August 19, 2003 from 8:30 a.m. to 4 p.m. at the Airport Executive Offices in Terminal E at the Philadelphia International Airport in Philadelphia, Pennsylvania. To notify the general public of the Scoping process, a legal notice will be placed in newspapers having general circulation in the project area describing proposed project. The newspaper notice will notify the public that a Scoping Meeting will be held to gain their input concerning the proposed project. The public scoping meeting is scheduled for 5 p.m. to 9 p.m. on August 12, 2003 at the Sheraton Suites and Four Points, Philadelphia Airport Complex, 4101 Island Avenue in Philadelphia, Pennsylvania. The format of the meeting will be an open house with project information displayed and representatives from the FAA and the Airport available to answer questions. A formal presentation will be held at 6 p.m. and repeated at 8 p.m. Written and oral comments will be accepted at each of the meetings. The public comment period on this initial Scoping phase of the EIS will end on September 3, 2003. Written comments will be accepted if postmarked on or before September 3, 2003 and should be sent to the address above.

The purpose of the Scoping Meeting is to receive comments from the public and answer questions regarding the scope and process related to the EIS.

Issued on: July 21, 2003.
James White,
Acting Manager, Airports Division, Eastern Region.

[FR Doc. 03-19402 Filed 7-29-03; 8:45 am]

BILLING CODE 4910-13-M